DEPARTMENT OF JUSTICE

Antitrust Division

Notice Pursuant to the National Cooperative Research and Production Act of 1993—American Gas Association

Notice is hereby given that, on September 17, 2004, pursuant to section 6(a) of the National Cooperative Research and Production Act of 1993, 15 U.S.C. 4301 et seq. (“the Act”), American Gas Association (“AGA”) has filed written notifications simultaneously with the Attorney General and the Federal Trade Commission disclosing (1) the name and principal place of business of the standards development organization and (2) the nature and scope of its standards development activities. The notifications were filed for the purpose of involving the Act's provisions limiting the recovery of antitrust plaintiffs to actual damages under specified circumstances.

Pursuant to section 6(b) of the Act, the name and principal place of business of the standards development organization is: American Gas Association, Washington, DC. The nature and scope of AGA's standards development activities are: (1) Installation and operation of gas piping and equipment on customer premises, (2) gas measurement and metering, (3) gas transmission and distribution piping systems, (4) gas engineering and operating practices, and (5) gas fire prevention and safety.

Dorothy B. Fountain,
Deputy Director of Operations, Antitrust Division.

[FR Doc. 04-24557 Filed 11-2-04; 8:45 am]

BILLING CODE 4410-11-M